DEPARTMENT OF COMMERCE

National Oceanic and Atmospheric Administration

[I.D. 030101A]

North Pacific Fishery Management Council; Public Meetings

AGENCY: National Marine Fisheries Service (NMFS), National Oceanic and Atmospheric Administration (NOAA), Commerce.

ACTION: Notice of committee meetings.

SUMMARY: Two committees of the North Pacific Fishery Management Council (Council) will meet in Anchorage, AK.

DATES: The meeting will be held on March 20-23, 2001.

ADDRESSES: The meeting will be held at the Hilton Hotel, 500 W. Third Avenue, Anchorage, AK.

Council address: North Pacific Fishery Management Council, 605 W. 4th Ave., Suite 306, Anchorage, AK 99501-2252.

FOR FURTHER INFORMATION CONTACT: Council Staff, North Pacific Fishery Management Council; 907-271-2809.

SUPPLEMENTARY INFORMATION: The Council’s Gulf of Alaska Rationalization Committee will meet beginning at 8 a.m. on Tuesday, March 20, and continue on Wednesday, March 21, until their agenda is completed. The Committee will continue discussions on the aspects of rationalizing the groundfish fisheries in the Gulf of Alaska, focusing on the following points:

1. Determine whether rationalization in the Gulf of Alaska is needed;

2. If so, for what species and/or areas;

3. Determine the need for analyses of the economic impacts of:

a. individual fishing quotas;

b. processor quotas;

c. cooperatives; and/or

d. community quotas.

The Council’s Bering Sea/Aleutian Islands Crab Rationalization Committee will also meet at the hotel, beginning at 10 a.m. on Thursday, March 22, continuing through Friday, March 23. The Committee will continue their task of developing alternatives, elements, and options for rationalization of the Bering Sea/Aleutian Islands crab fisheries. Committee recommendations will be considered by the Council when tasking staff with an analysis for future crab management programs.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to Helen Allen, 907-271-2809, at least 5 working days prior to the meeting date.

Dated: March 1, 2001.
Bruce C. Morehead,
Acting Director, Office of Sustainable Fisheries, National Marine Fisheries Service.

[FR Doc. 01-5437 Filed 3-5-01; 8:45 am]

BILLING CODE 3510-22-S